DEPARTMENT OF THE INTERIOR

National Park Service

Concession Contract and Permits

AGENCY: National Park Service, Interior.

ACTION: Public notice.

SUMMARY: Pursuant to the terms of existing concession contracts, public notice is hereby given that the National Park Service intends to request a continuation of visitor services for a period not to exceed 1 year from the date of contract expiration.

DATES: Effective Date: January 1, 2007.

SUPPLEMENTARY INFORMATION: The contracts listed below have been extended to the maximum allowable under 36 CFR 51.23. Under the provisions of current concession contracts and pending the completion of the public solicitation of a prospectus for a new concession contract, the National Park Service authorizes continuation of visitor services for a period not to exceed 1 year under the terms and conditions of the current contract as amended. The continuation of operations does not affect any rights with respect to selection for award of a new concession contract.

CONCID No. | Concessioner name | Park
BLRI002-83 | Northwest Trading Post, Inc. | Blue Ridge Parkway.
BLRI001-93 | Southern Highland Handicraft Guild | Blue Ridge Parkway.
BLRI007-82 | Forever NPC Resorts, LLC | Blue Ridge Parkway.
BUIS015-98 | MileMark, Inc. | Buck Island Reef National Monument.
CAHA001-98 | Avon-Thornton Limited Partnership | Cape Hatteras National Seashore.
CAHA002-98 | Cape Hatteras Fishing Pier, Inc. | Cape Hatteras National Seashore.
CAHA003-84 | Hatteras Island Motel Limited Partnership | Cape Hatteras National Seashore.
CAHA004-98 | Oregon Inlet Fishing Center, Inc. | Cape Hatteras National Seashore.
CALO003-98 | Morris Marina, Kabin Kamps & Ferry Service, Inc. | Cape Lookout National Seashore.
EVER001-80 | Xanterra Parks and Resorts, Inc. | Everglades National Park.
EVER002-82 | Everglades National Park Boat Tours, Inc. | Everglades National Park.
EVER005-89 | Florida National Parks & Monuments Assoc. | Everglades National Park.
FOSU001-86 | Fort Sumter Tours, Inc. | Fort Sumter National Monument.
GRSM002-83 | Leconte Lodge Limited Partnership | Great Smoky Mountains National Park.
MACA002-82 | Forever Resorts, LLC/Forever Resorts, Inc. | Mammoth Cave National Park.
VIIS001-71 | Caneel Bay, Inc. | Virgin Islands National Park.

DATES: Effective Date: January 1, 2007.

FOR FURTHER INFORMATION CONTACT: Jo A. Pendry, Concession Program Manager, National Park Service, Washington, DC 20240, Telephone, 202/513-7156.

Dated: December 16, 2006.
John Wessels,
Acting Assistant Director, Business Services.

[FR Doc. 07-662 Filed 2-13-07; 8:45 am]

BILLING CODE 4312-53-M